DEPARTMENT OF HOMELAND SECURITY

Coast Guard

33 CFR Part 117

[CGD05-05-019]

RIN 1625-AA09

Drawbridge Operation Regulations; Kent Island Narrows, Kent Island, MD

AGENCY: Coast Guard, DHS.

ACTION: Final rule.

SUMMARY: The Coast Guard is changing the regulations that govern the operation of the S.R. 18-B Bridge, over Kent Island Narrows, mile 1.0, in Kent Island, MD. The final rule allows the S.R. 18-B Bridge to open on signal for vessel traffic on the hour and half-hour from 6 a.m. to 9 p.m., from May 1 through October 31, but need not be opened from 9 p.m. to 6 a.m. From November 1 through April 30, the draw shall open on signal from 6 a.m. to 6 p.m., but need not be opened from 6 p.m. to 6 a.m. The draw shall open on signal for public vessels of the United States, State, or local government vessels used for public safety purposes, and vessels in distress. This change will allow for a more efficient flow of vessel traffic.

DATES: This rule is effective August 4, 2005.

ADDRESSES: Comments and material received from the public, as well as documents indicated in this preamble as being available in the docket, are part of docket CGD05-05-019 and are available for inspection or copying at Commander (obr), Fifth Coast Guard District, Federal Building, 1st Floor, 431 Crawford Street, Portsmouth, VA 23704-5004 between 8 a.m. and 4 p.m., Monday through Friday, except Federal holidays. The Fifth Coast Guard District maintains the public docket for this rulemaking.

FOR FURTHER INFORMATION CONTACT: Anton Allen, Bridge Management Specialist, Fifth Coast Guard District, at (757) 398-6227.

SUPPLEMENTARY INFORMATION:

Regulatory History

On April 27, 2005, we published a notice of proposed rulemaking (NPRM) entitled “Drawbridge Operation Regulations; Kent Island Narrows, Kent Island, MD” in the Federal Register (70 FR 21700). We received two comments on the proposed rule. No public meeting was requested, and none was held.

Background and Purpose

Maryland Department of Transportation (MDOT), who owns and operates this bascule bridge at mile 1.0 across Kent Island Narrows, in Kent Island, MD, requested a change to the current operating procedures set out in 33 CFR Part 117.561, which requires the draw to open on signal from November 1 through April 30, from 6 a.m. to 6 p.m., but need not be opened from 6 p.m. to 6 a.m.; and from May 1 through October 31 with the following restrictions: On Monday (except when Monday is a holiday) through Thursday (except when Thursday is the day before a Friday holiday), the draw shall open on signal on the hour from 7 a.m. to 7 p.m., but need not be opened at any other time; On Friday (except when Friday is a holiday) and on Thursday when it is the day before a Friday holiday, the draw shall open on signal on the hour from 6 a.m. to 3 p.m. and at 8 p.m., but need not be opened at any other time; On Saturday and on a Friday holiday, the draw shall open on signal at 6 a.m. and 12 noon and on signal on the hour from 3 p.m. to 8 p.m., but need not open at any other time; On Sunday and on a Monday holiday, the draw shall open on signal on the hour from 6 a.m. to 1 p.m. and at 3:30 p.m., but need not be opened at any other time; The draw shall open at scheduled opening times only if vessels are waiting to pass. At each opening, the draw shall remain open for a sufficient period of time to allow passage of all waiting vessels; and if a vessel is approaching the bridge and cannot reach the bridge exactly on the hour, the drawtender may delay the hourly opening up to ten minutes past the hour for the passage of the approaching vessel and any other vessels that are waiting to pass.

In 1990, MDOT completed a new high-rise bridge along U.S. Route 50/301, which carries the majority of vehicle traffic, parallel to the drawbridge, allowing the draw to operate with fewer restrictions to vessels. The drawbridge has been inadvertently operated by MDOT on this final rule schedule since October 31, 1991.

The Coast Guard issued a temporary deviation from May 1, 2004 to July 29, 2004, to test the proposed regulation and solicit comments. The Coast Guard did not receive any comments during the temporary deviation.

This change is being requested to make the operation of the S.R. 18-B Bridge more efficient. In addition, the draw will provide for greater flow of vessel traffic than the current regulation.

Discussion of Comments and Changes

The Coast Guard received one comment on the NPRM from a private boater and one from MDOT. The private boater is in support of the opening schedule. MDOT provided information to correct slight inaccuracies in the background and purpose of this rule. The Coast Guard has incorporated the following correction to the background and purpose: Construction of the high-rise bridge parallel to the drawbridge actually completed in 1990 vice 1997.

The Coast Guard considers this change necessary to accurately describe details in the background and purpose. The comment provided by MDOT did not have an impact on the regulation itself, but was included for informational purposes only.

Regulatory Evaluation

This final rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this final rule to be so minimal that a full Regulatory Evaluation under the regulatory policies and procedures of DHS is unnecessary. We reached this conclusion based on the fact that the majority of vehicle traffic utilizes the high-rise bridge and this rule will increase the number of openings for maritime traffic transiting the bridge.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

Assistance for Small Entities

Under section 213(a) of the Small Business Regulatory Enforcement Fairness Act of 1996 (Public Law 104-121), we want to assist small entities in understanding this rule so that they can better evaluate its effects on them and participate in the rulemaking process. No assistance was requested from any small entity.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e) of the Instruction, from further environmental documentation because it has been determined that the promulgation of operating regulations for drawbridges are categorically excluded.

List of Subjects in 33 CFR Part 117

Bridges.

Regulations

For the reasons discussed in the preamble, the Coast Guard amends 33 CFR part 117 as follows:

PART 117—DRAWBRIDGE OPERATION REGULATIONS

1. The authority citation for part 117 continues to read as follows:

Authority: 33 U.S.C. 499; Department of Homeland Security Delegation No. 0170.1; 33 CFR 1.05-1(g); section 117.255 also issued under the authority of Pub. L. 102-587, 106 Stat. 5039.

2. In § 117.561 revise paragraphs (b) and (c) to read as follows:

§ 117.561 Kent Island Narrows.

* * * * *

(b) From May 1 through October 31, the draw shall open on signal on the hour and half-hour from 6 a.m. to 9 p.m., but need not be opened from 9 p.m. to 6 a.m.

(c) The draw shall open on signal for public vessels of the United States, state and local government vessels used for public safety purposes, and vessels in distress. Operational information will be available 24 hours a day by calling 1-800-543-2515.

Dated: June 27, 2005.
Sally Brice-O'Hara,
Rear Admiral, United States Coast Guard, Commander, Fifth Coast Guard District.

[FR Doc. 05-13129 Filed 7-1-05; 8:45 am]

BILLING CODE 4910-15-P